DEPARTMENT OF TRANSPORTATION

Transportation Security Administration

Aviation Security Advisory Committee Meeting

AGENCY: Transportation Security Administration, DOT.

ACTION: Notice of meeting.

SUMMARY: This notice announces a public meeting of the Aviation Security Advisory Committee (ASAC).

DATES: The meeting will take place on October 1, 2002 from 10 a.m. to 1:30 p.m.

ADDRESSES: The meeting will be held at the Marriott Wardman Park Hotel, 2660 Woodley Road, NW., Washington, DC, 20008.

FOR FURTHER INFORMATION CONTACT: Dean Walter, Office of Security Regulation and Policy, 400 7th St. SW., Washington, DC, 20590, Room 3034, telephone 202-385-1236.

SUPPLEMENTARY INFORMATION: This meeting is announced pursuant to section 10(a)(2) of the Federal Advisory Committee Act (Pub. L. 92-463; 5 U.S.C. App.ll). The agenda for the meeting will include; a discussion of ASAC, its structure and role; a status report on the Transportation Security Administration structure and recent activities; and implementation of the Aviation and Transportation Security Act (Pub. L. 107-71).

The meeting is open to the public, but attendance is limited to the space available. Members of the public must make advance arrangements to present oral statements at the meeting. Written statements may be presented to the committee by providing copies of them to the Chair prior to or at the meeting. Anyone in need of assistance or a reasonable accommodation for the meeting, should contact the person listed under the heading FOR FURTHER INFORMATION CONTACT. In addition, sign and oral interpretation, as well as a listening device, can be made available at the meeting if requested 10 calendar days before the meeting. Arrangements may be made by contacting the person listed under the heading FOR FURTHER INFORMATION CONTACT.

Issued in Washington, DC, on September 10, 2002.
Thomas R. Blank,
Associate Under Secretary for Security Regulation and Policy.

[FR Doc. 02-23475 Filed 9-13-02; 8:45 am]

BILLING CODE 4110-62-P